NATIONAL AERONAUTICS AND SPACE ADMINISTRATION

[Notice (03-057)]

Government-Owned Inventions, Available for Licensing

ACTION: Notice of availability of inventions for licensing.

SUMMARY: The invention listed below is assigned to the National Aeronautics and Space Administration, has been filed in the United States Patent and Trademark Office, and is available for licensing.

DATES: June 3, 2003.

FOR FURTHER INFORMATION CONTACT: Randy Heald, Patent Counsel, Kennedy Space Center, Mail Code CC-A, Kennedy Space Flight Center, FL 32899; telephone (321) 867-7214, fax (321) 867-1817.

NASA Case No. KSC-11937-2: Communication System With Adaptive Noise Suppression.

Dated: May 28, 2003.
Robert M. Stephens,
Deputy General Counsel.

[FR Doc. 03-13908 Filed 6-2-03; 8:45 am]

BILLING CODE 7510-01-P